INTERNATIONAL TRADE COMMISSION

[Investigation No. 337-TA-836]

Investigations: Terminations, Modifications and Rulings: Certain Consumer Electronics and Display Devices and Products Containing Same

AGENCY: U.S. International Trade Commission.

ACTION: Notice.

SUMMARY: Notice is hereby given that the U.S. International Trade Commission has determined not to review an initial determination (“ID”) (Order No. 30) granting a joint motion to terminate the above-captioned investigation based on settlement agreements. The investigation is terminated.

FOR FURTHER INFORMATION CONTACT: Clark S. Cheney, Office of the General Counsel, U.S. International Trade Commission, 500 E Street SW., Washington, DC 20436, telephone (202) 205-2661. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on April 10, 2012, based on a complaint filed by Graphics Properties Holdings, Inc. of New Rochelle, New York (“GPH”). 77 FR 21584 (April 10, 2012). The complaint alleges violations of section 337 of the Tariff Act of 1930, as amended (19 U.S.C. 1337), in the importation into the United States, the sale for importation, and the sale within the United States after importation of certain consumer electronics devices and display devices and products containing same, by reason of infringement of various claims of U.S. Patent No. 6,650,327; U.S. Patent No. 6,816,145; and U.S. Patent No. 5,717,881. The notice of investigation named numerous respondents, including HTC Corporation of Taoyuan, Taiwan; HTC America, Inc. of Bellevue, Washington; LG Electronics, Inc. of Seoul, South Korea; LG Electronics, Mobilecomm U.S.A., Inc. of San Diego, California; LG Electronics U.S.A., Inc. of Englewood Cliffs, New Jersey; Research in Motion Ltd. of Ontario, Canada; Research In Motion Corp. of Irving, Texas; Samsung Electronics Co., Ltd., of Seoul, South Korea; Samsung Electronics America, Inc. of Ridgefield Park, New Jersey; Samsung Telecommunications America, LLC of Richardson, Texas; Sony Corporation of Tokyo, Japan; Sony Corporation of America of New York, New York; Sony Electronics Inc. of San Diego, California; Sony Mobile Communications AB of Lund, Sweden; Sony Mobile Communications (USA) Inc. of Atlanta, Georgia (collectively “the remaining respondents”); and Apple Inc. of Cupertino, California (previously terminated).

On January 15, 2013, GPH and the remaining respondents filed joint a motion to terminate the investigation on the basis of settlement agreements. On January 25, 2013, the Commission investigative attorney filed a response in support of the motion. No party opposed the motion.

On January 28, 2013, the ALJ issued the subject ID (Order No. 30) granting the motion pursuant to section 210.21(b) of the Commission's Rules of Practice and Procedure (19 CFR 21.21(b)). The ALJ found no indication that termination of the investigation based on the settlement agreements would have an adverse impact on the public interest. No petitions for review of the ID were filed.

The Commission has determined not to review the ID. The investigation is terminated.

The authority for the Commission's determination is contained in section 337 of the Tariff Act of 1930, as amended (19 U.S.C. 1337), and in Part 210.42 of the Commission's Rules of Practice and Procedure (19 CFR 210.42).

Issued: March 1, 2013.
By order of the Commission.
Lisa R. Barton,
Acting Secretary to the Commission.

[FR Doc. 2013-05267 Filed 3-6-13; 8:45 am]

BILLING CODE 7020-02-P